DEPARTMENT OF ENERGY

Federal Energy Regulatory Commission

Notice of Amended License Application To Include Co-Applicant and Soliciting Motions To Intervene and Protests

May 2, 2001.

Take notice that the following amended hydroelectric application has been filed with the Commission and is available for public inspection.

a. Type of Application: New major license.

b. Project No.: P-2318-002.

c. Date filed: April 12, 2000.

d. Applicants: Erie Boulevard Hydropower, L.P. and Hudson River-Black River Regulating District.

e. Name of Project: E.J. West Hydro Project.

f. Location: On the Sacandaga River, 6 miles upstream from its confluence with the Hudson River, in the town of Hadley, Saratoga County, New York. The project would not utilize federal lands.

g. Filed Pursuant to: Federal Power Act, 16 U.S.C. 791(a)-825(r) and the Commission regulations, 18 CFR 385.215(a), 16.9(b)(3) and 16.9(c).

h. Applicant Contacts: Mr. Jerry L. Sabattis, Hydro Licensing Coordinator, 225 Greenfield Parkway, Suite 201, Liverpool, New York 13088, (315) 413-2787 (Erie); and Mr. Thomas E. Brewer, Chief Engineer, Hudson River-Black River Regulating District, 350 Northern Boulevard, Albany, New York 12204, (518) 465-3491 (District).

i. FERC Contact: Lee Emery, E-mail address at Lee.Emery@ferc.fed.us. or telephone (202) 219-2779.

j. Deadline for filing motions to intervene and protests: 60 days from the issuance date of this notice.

All documents (original and eight copies) should be filed with: David P. Boergers, Secretary, Federal Energy Regulatory Commission, 888 First Street, NE, Washington, DC 20426. Comments, protests and interventions may be filed electronically via the internet in lieu of paper. See, 18 CFR 385.2001(a)(1)(iii) and the instructions on the Commission's web site at http://www.ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, and is ready for environmental analysis at this time.

l. Description of Amended Application: Erie filed its relicense application for the E.J. West Project with the Commission on December 13, 1991. The Commission issued a Notice of Application Ready for Environmental Analysis (REA) for the project on July 14, 2000. The description of project facilities are described in the REA Notice. The District is a state agency that currently operates and maintains the Great Sacandaga Lake and the Conklingville Dam for flood control and low-flow augmentation purposes for the Lower Hudson River. Erie currently generates hydroelectric power using its own powerhouse and the District's facilities of the dame and reservoir (Great Sacandaga Lake).

The Applicants have requested waivers concerning any final amendment deadline to accommodate the filing of this amendment, and they have requested the Commission, in their future licensing action on this project, consider issuing (1) a separate license to Erie (existing licensee) for the project powerhouse and generating facilities; and (2) a separate license to the District (currently unlicensed) for the Conklingville Dam and Great Sacandaga Lake.

m. A copy of the amendment is available for inspection and reproduction at the Commission's Public Reference Room, located at 888 First Street, NE., Room 2-A, Washington, DC 20426, or by calling (202) 208-1371. The amendment may be viewed on http://www.ferc.fed.us/online/rims.htm (call (202) 208-2222 for assistance). A copy is also available for inspection and reproduction at the address in item h above.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

David P. Boergers,
Secretary.

[FR Doc. 01-11482 Filed 5-7-01; 8:45 am]

BILLING CODE 6717-01-M